NUCLEAR REGULATORY COMMISSION

Withdrawal of Regulatory Guide

AGENCY: U.S. Nuclear Regulatory Commission.

ACTION: Withdrawal of Regulatory Guide 1.139.

FOR FURTHER INFORMATION CONTACT: Stephen C. O'Connor, U.S. Nuclear Regulatory Commission, Washington, DC 20555-0001, telephone 301-415-2169 or e-mail SCO@nrc.gov

SUPPLEMENTARY INFORMATION:

I. Introduction

The U.S. Nuclear Regulatory Commission (NRC) is withdrawing Regulatory Guide 1.139, “Guidance for Residual Heat Removal,” which the agency issued for comment in May 1978. Regulatory Guide 1.139 proposed a method acceptable to the NRC staff for complying with General Design Criterion (GDC) 34, “Residual Heat Removal,” of Appendix A, “General Design Criteria for Nuclear Power Plants,” to Title 10, Part 50, “Domestic Licensing of Production and Utilization Facilities,” of the Code of Federal Regulations (10 CFR Part 50) with regard to actions taken in the control room (see GDC 19, “Control Room”) to remove decay heat and sensible heat after a reactor shutdown. The NRC is withdrawing Regulatory Guide 1.139, “Guidance for Residual Heat Removal,” which the agency issued for comment in May 1978. Regulatory Guide 1.139 proposed a method acceptable to the NRC staff for complying with General Design Criterion (GDC) 34, “Residual Heat Removal,” of Appendix A, “General Design Criteria for Nuclear Power Plants,” to Title 10, Part 50, “Domestic Licensing of Production and Utilization Facilities,” of the Code of Federal Regulations (10 CFR Part 50) with regard to actions taken in the control room (see GDC 19, “Control Room”) to remove decay heat and sensible heat after a reactor shutdown. The NRC is withdrawing Regulatory Guide 1.139 because it describes an overly conservative and prescriptive method for complying with the aforementioned criteria. Licensees for existing nuclear power plants have proposed alternative ways for complying with these criteria that the NRC staff has found to be acceptable in individual power plants based on case by case reviews. These alternatives were developed by licensees without guidance from the NRC. At this time, it also appears unlikely that future applicants would need additional guidance from the NRC with regard to how to comply with these criteria. As such, Regulatory Guide 1.139 no longer provides useful information to licensees or applicants and additional guidance in this area is unnecessary.

II. Further Information

The withdrawal of Regulatory Guide 1.139 does not, in and of itself, alter any prior or existing licensing commitments based on its use. The guidance provided in this regulatory guide is no longer necessary. Regulatory guides may be withdrawn when their guidance is superseded by congressional action, the methods or techniques described in the regulatory guide no longer describe a preferred approach, or the regulatory guide does not provide useful information.

Regulatory guides are available for inspection or downloading through the NRC's public Web site under “Regulatory Guides” in the NRC's Electronic Reading Room at http://www.nrc.gov/reading-rm/doc-collections. Regulatory guides are also available for inspection at the NRC's Public Document Room (PDR), Room O-1F21, One White Flint North, 11555 Rockville Pike, Rockville, MD 20852-2738. The PDR mailing address is U.S. NRC PDR, Washington, DC 20555-0001. The PDR staff can be reached by telephone at 301-415-4737 or 800-397-4209, by fax at 301-415-3548, or by e-mail to pdr@nrc.gov.

Regulatory guides are not copyrighted, and NRC approval is not required to reproduce them.

Dated at Rockville, Maryland, this 4th day of June 2008.
For the Nuclear Regulatory Commission.
Stephen C. O'Connor,
Acting Chief, Regulatory Guide Development Branch, Division of Engineering, Office of Nuclear Regulatory Research.

[FR Doc. E8-12951 Filed 6-9-08; 8:45 am]

BILLING CODE 7590-01-P